ENVIRONMENTAL PROTECTION AGENCY

[FRL-9289-4]

Clean Water Act Section 303(d): Final Agency Action on Three Total Maximum Daily Loads (TMDLs) in Louisiana

AGENCY: Environmental Protection Agency (EPA).

ACTION: Notice of availability.

SUMMARY: This notice announces final agency action on three TMDLs prepared by EPA Region 6 for waters listed in Louisiana's Mississippi River Basin, under Section 303(d) of the Clean Water Act (CWA). Documents from the administrative record file for the three TMDLs, including TMDL calculations and responses to comments, may be viewed at http://www.epa.gov/region6/water/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. EPA established three of these TMDLs pursuant to a consent decree entered in this lawsuit.

EPA Takes Final Agency Action on Three TMDLs

By this notice EPA is taking final agency action on the following three TMDLs on waters located within the Louisiana Mississippi River Basin:

Subsegment | Waterbody name | Pollutant
070401 | Mississippi River Passes (estuarine) | Fecal Coliform.
070502 | Thompson Creek | Fecal Coliform.
070503 | Capitol Lake | Fecal Coliform.

EPA requested the public provide to EPA any significant water quality related data or information that might impact the three TMDLs in the Federal Register Notice: volume 75, number 37, page 8698 (February 25, 2010). The comments which were received, EPA's response to comments, as well as the TMDLs may be found at http://www.epa.gov/region6/water/npdes/tmdl/index.htm.

Dated: March 28, 2011.
Miguel I. Flores,
Director, Water Quality Protection Division, EPA Region 6.

[FR Doc. 2011-7906 Filed 4-1-11; 8:45 am]

BILLING CODE 6560-50-P